DEPARTMENT OF TRANSPORTATION

Surface Transportation Board

[STB Finance Docket No. 34361]

Metro Regional Transit Authority—Acquisition Exemption—Certain Assets of CSX Transportation, Inc.

Metro Regional Transit Authority (METRO) has filed a notice of exemption under 49 CFR 1150.31, et seq. to acquire CSX Transportation, Inc.'s (CSXT) right, title and interest in a perpetual freight rail easement over a rail line owned by METRO between approximately milepost 40.42 (valuation station 1856+40) near Howard Street in Akron, OH and approximately milepost 33.70 (valuation station 2206+60) at Krumroy, OH, a distance of approximately 6.72 miles in Summit County, OH.¹

¹ The freight easement was initially retained by CSXT when CSXT sold the assets comprising the subject line to METRO in Metro Regional Transit Authority—Acquisition Exemption—CSX Transportation, Inc., STB Finance Docket No. 33838 (STB served June 23, 2000).

METRO indicates that it will not operate any freight rail service on the line. METRO further indicates that this transaction is related to STB Finance Docket No. 34362, Akron Barberton Cluster Railway Company—Lease and Operation Exemption—Metro Regional Transit Authority, wherein the Akron Barberton Cluster Railway Company has filed a notice of exemption under 1150.41 to lease and operate over the rail line involved here.

Consummation of the transaction was expected to occur on or after June 19, 2003, the effective date of this exemption.

METRO certifies that the projected annual revenues as a result of the transaction will not exceed $5 million, and thus the transaction will not result in the creation of a Class II or Class I rail carrier.

If the verified notice contains false or misleading information, the exemption is void ab initio. Petitions to revoke the exemption under 49 U.S.C. 10502(d) may be filed at any time. The filing of a petition to revoke will not automatically stay the transaction.

An original and 10 copies of all pleadings, referring to STB Finance Docket No. 34361, must be filed with the Surface Transportation Board, 1925 K Street, NW., Washington, DC 20423-0001. In addition, a copy of each pleading must be served on Edward J. Fishman, Esq., Kirkpatrick & Lockhart LLP, 1800 Massachusetts Ave., Second Floor, Washington, DC 20036.

Board decisions and notices are available on our Web site at http://www.stb.dot.gov.

Decided: July 2, 2003.
By the Board, Joseph H. Dettmar, Acting Director, Office of Proceedings.
Vernon A. Williams,
Secretary.

[FR Doc. 03-17345 Filed 7-10-03; 8:45 am]

BILLING CODE 4915-00-P